DEPARTMENT OF COMMERCE

National Oceanic and Atmospheric Administration

RIN 0648-XE250

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Advisory Subpanel (HMSAS) and Highly Migratory Species Management Team (HMSMT) will hold a Webinar, which is open to the public.

DATES: The Webinar will be held on Tuesday, November 3, 2015, from 1:30 p.m. to 4:30 p.m. Pacific Time, or when business for the day is complete.

ADDRESSES: To attend the webinar, visit http://www.joinwebinar.com. Enter the Webinar ID: 135-307-211, and your name and email address (required). Once you have joined the webinar, after logging in to the Webinar, dial this TOLL number (631) 992-3221, enter the Attendee phone audio access code 199-048-743, and enter your audio phone pin (shown after joining the webinar). Participants are encouraged to use their telephone, as this is the best practice to avoid technical issues and excessive feedback. System requirements for PC-based attendees: Required: Windows® 7, Vista, or XP; for Mac®-based attendees: Required: Mac OS® X 10.5 or newer; and for mobile attendees: Required: iPhone®, iPad®, Android™ phone or Android tablet (See the GoToMeeting Webinar Apps). You may also send an email to Mr. Kris Kleinschmidt or contact him at 503-820-2280 for technical assistance. A listening station will also be provided at the Pacific Council office.

Council address: Pacific Council, 7700 NE., Ambassador Place, Suite 101, Portland, OR 97220-1384.

FOR FURTHER INFORMATION CONTACT: Dr. Kit Dahl, Pacific Council; telephone: (503) 820-2422.

SUPPLEMENTARY INFORMATION: The HMSMT and HMSAS will develop recommendations for the North Pacific albacore management strategy evaluation to be conducted by the International Scientific Committee for Tuna and Tuna-Like Species in the North Pacific Ocean. Recommendations may include management objectives, harvest control rules, biological reference points, and evaluation criteria. Recommendations will be forwarded to U.S. government representatives to the planned special meeting of the Western and Central Pacific Fisheries Commission Northern Committee to be held in December 2015.

The HMSAS Chair and the HMSMT Chair will act as co-chairs and comments from the public during the webinar will be received from attendees at their discretion.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The listening station is physically accessible to people with disabilities. Requests for sign language interpretation or other auxiliary aids should be directed to Mr. Kris Kleinschmidt at (503) 820-2280 at least 5 days prior to the meeting date.

Dated: October 13, 2015.
Tracey L. Thompson,
Acting Deputy Director, Office of Sustainable Fisheries, National Marine Fisheries Service.

[FR Doc. 2015-26352 Filed 10-15-15; 8:45 am]

BILLING CODE 3510-22-P